CORPORATION FOR NATIONAL AND COMMUNITY SERVICE

Submission for OMB Emergency Review

AGENCY: Corporation for National and Community Service.

ACTION: Notice.

SUMMARY: The Corporation for National and Community Service (CNCS), submitted the following recordkeeping requirement notice to the Office of Management and Budget (OMB) for review and clearance in accordance with the Paperwork Reduction Act of 1995, (PRA 95) (44 U.S.C. Chapter 35). CNCS requested that OMB review and approve its emergency request by September 27, 2012, for a period of six months. This recordkeeping requirement, located in 45 CFR 2540.205-.206, may be obtained by contacting Amy Borgstrom, (202) 606-6930 or by email at aborgstrom@cns.gov.

Because CNCS requested OMB's approval of this emergency request by September 27, 2012, there will not be enough time for the public to provide comments through this Federal Register Notice before the approval date. Therefore, there will be no comment period for this request.

Type of Review: Emergency request.

Agency: Corporation for National and Community Service.

Title: Recordkeeping Requirement.

OMB Number: 3045-0047.

Agency Number: None.

Affected Public: CNCS Grantees and Subgrantees.

Total Respondents: 112,356.

Frequency: Three times per covered position.

Average Time per Response: Five minutes.

Estimated Total Burden Hours: 28,089 hours.

Total Burden Cost (capital/startup): None.

Total Burden Cost (operating/maintenance): None.

Description: The Corporation for National and Community Service (CNCS) will issue the final rule implementing the Serve America Act's National Service Criminal History Check rule. In an effort to be compliant while maintaining functions essential to the operations of each CNCS grantee, we are therefore submitting the enclosed request under 5 CFR 1320.13 to OMB for emergency processing and approval of recordkeeping requirements.

CNCS and its grantees must ensure that national service beneficiaries are protected from harm and the recordkeeping requirements of the final rule are critical to that responsibility. Moreover, as CNCS and OMB have previously communicated, CNCS is working hard to ensure it is fully compliant with the Paperwork Reduction Act and with OMB's information collection policies and procedures.

If you have any questions, contact Amy Borgstrom at 202-606-6930 or aborgstrom@cns.gov. We sincerely thank you for your consideration of this request and your willingness to work with us in remaining fully compliant with the Paperwork Reduction Act.

Dated: September 17, 2012.
Valerie Green,
General Counsel.

[FR Doc. 2012-23279 Filed 9-20-12; 8:45 am]

BILLING CODE 6050-$$-P